DEPARTMENT OF AGRICULTURE

Rural Housing Service

[Docket No. RHS-20-NONE-00010]

Notice of Request for Revision of a Currently Approved Information Collection

AGENCY: Rural Housing Service, USDA.

ACTION: Notice; comment requested.

SUMMARY: In accordance with the Paperwork Reduction Act of 1995, this notice announces the intention of the above-named Agency to request Office of Management and Budget's (OMB) approval for a revision of a currently approved information collection in support of the servicing of Loan Programs.

DATES: Comments on this notice must be received by June 15, 2020 to be assured of consideration.

FOR FURTHER INFORMATION CONTACT: Arlette Mussington, Rural Development Innovation Center—Regulations Management Division, USDA, 1400 Independence Avenue SW, Room 4227, South Building, Washington, DC 20250-1522. Telephone: (202) 720-2825. Email arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection the Agency is submitting to OMB for extension.

Comments

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the Search box, type the docket no. RHS-20-NONE-0010 to submit or view public comments and to view supporting and related materials available electronically. Information on using Regulations.gov, including instructions for accessing documents, submitting comments, and viewing the docket after the close of the comment period, is available through the site's “User Tips” link.

Title: Form RD 3550-28, Authorization Agreement for Preauthorized Payments, Form RD 1951-65, Customer Initiated Payments (CIP), and Form RD 1951-66, FedWire Worksheet.

OMB Number: 0575-0184.

Expiration Date of Approval: March 31, 2021

Type of Request: Revision of a currently approved information collection.

Abstract: Rural Development uses electronic methods (Customer Initiated Payments [CIP], FedWire, and Preauthorized Debits [PAD]) for receiving and processing loan payments and collections. These electronic collection methods provide a means for Rural Development borrowers to transmit loan payments from their financial institution (FI) accounts to Rural Development's Treasury Account and receive credit for their payments.

To administer these electronic loan collection methods, Rural Development collects the borrower's FI routing information (routing information includes the FI routing number and the borrower's account number). Rural Development uses Agency approved forms for collecting bank routing information for CIP, FedWire, and PAD.

Estimate of Burden: Public reporting burden for this collection of information is estimated to average .25 hours per response. Each Rural Development borrower who elects to participate in electronic loan payments will only prepare one response for the life of their loan unless they change financial institutions or accounts.

This revision reflects a 969 increase in responses and a 1,643 decrease in burden hours. This is due to an increase in respondents for the housing program and a decrease in completion of Forms 3550-28/A.

Respondents: Business or other for-profit; Not-for-profit institutions; and State, Local, or Tribal Government.

Estimated Number of Respondents: 9,598.

Estimated Number of Responses per Respondent: 1.

Estimated Number of Responses: 9,598.

Estimated Total Annual Burden on Respondents: 2,399.50 hours.

Copies of this information collection can be obtained from Arlette Mussington, Innovation Center—Regulations Management Division, at (202) 720-2825. Email: arlette.mussington@usda.gov.

All responses to this notice will be summarized and included in the request for OMB approval. All comments will also become a matter of public record.

Bruce W. Lammers,
Administrator, Rural Housing Service.

[FR Doc. 2020-07754 Filed 4-13-20; 8:45 am]

BILLING CODE 3410-XV-P